DEPARTMENT OF TRANSPORTATION

Federal Highway Administration

Notice of Final Federal Agency Actions on Proposed Highway in Idaho

AGENCY: Federal Highway Administration (FHWA), Department of Transportation.

ACTION: Notice of limitation on claims for judicial review of actions by FHWA.

SUMMARY: This notice announces actions taken by the FHWA that are final. The actions relate to a proposed highway project, U.S. 20 at Targhee Pass, specifically the section between its junction with Idaho State Highway 87 and the Montana State line, milepost 402.1 to 406.3 in Fremont County, State of Idaho. The actions grant licenses, permits, and approvals for the project.

DATES: By this notice, the FHWA is advising the public of final agency actions subject to 23 U.S.C. 139(l)(1). A claim seeking judicial review of the Federal agency actions on the highway project will be barred unless the claim is filed on or before August 23, 2021. If the Federal law that authorizes judicial review of a claim provides a time period of less than 150 days for filing such claim, then that shorter time period still applies.

FOR FURTHER INFORMATION CONTACT: For FHWA: Lisa Applebee, ITD Districts 5 and 6, LPA, and TPA liaison, Idaho Division Office, FHWA, 3050 N Lakeharbor Lane, Boise, ID 83703, 208-334-9180 Ext, 112, lisa.applebee@dot.gov. For Idaho Transportation Department (ITD): Derek Noyes, Project Manager, ITD District 6, 206 N Yellowstone Hwy., Rigby, ID 83442, 208-745-5683, derek.noyes@itd.idaho.gov.

SUPPLEMENTARY INFORMATION: Notice is hereby given that the FHWA has taken final agency actions subject to 23 U.S.C. 139(l)(1) by issuing licenses, permits, and approvals for the following highway project in the State of Idaho: Project Key No. 14054 and 19913, U.S. 20 from the Junction of Idaho Highway 87 to the Montana State Line, mileposts 402.1 to 406.3. This project includes full depth reconstruction of the roadway including new drainage and base material, a passing lane in the Eastbound (uphill) direction for the entire length of the project, turning lanes at the Bighorn Hills Estates subdivision, and improvement to the sight distance around curves. The scope of this project also includes the installation of an electronic animal detection and warning system. The purpose of this project is to accommodate increased traffic in this section of roadway, and improve driver safety.

The actions by the Federal agencies, and the laws under which such actions were taken, are described in the Environmental Assessment (EA) for the project, approved on June 3, 2020, in the FHWA Finding of No Significant Impact (FONSI) issued on December 8, 2020, and in other documents in the FHWA project records. The EA, FONSI, and other project records are available by contacting FHWA or the Idaho Transportation Department at the addresses provided above. The FHWA EA and FONSI can be viewed and downloaded from the project website at www.islandparkus20.com, or a hard copy can be obtained by contacting ITD.

This notice applies to all Federal agency decisions as of the issuance date of this notice and all laws under which such actions were taken, including but not limited to:

• National Environmental Policy Act: 42 U.S.C. 4321-4335

• Federal-Aid Highway Act (23 U.S.C. 109 and 23 U.S.C. 128)

• Clean Air Act (42 U.S.C. 7401-7671q) (transportation conformity)

• Section 4(f) of the Department of Transportation Act of 1966 (49 U.S.C. 303)

• Endangered Species Act of 1973, as amended: 16 U.S.C.1531-1543 (Pub. L. 93-205) (Pub. L. 94-359) (Pub. L. 95-632) (Pub. L. 96-159) (Pub. L. 97-304)

• Fish and Wildlife Coordination Act (16 U.S.C. 661-667(e))

• Migratory Bird Treaty Act (16 U.S.C. 703-712)

• The National Flood Insurance Act of 1968, as amended, and The Flood Disaster Protection Act of 1973, as amended, 42 U.S.C. 4001 et. seq.

• Bald and Golden Eagle Protection Act (16 U.S.C. 668-668d)

• Section 106 of the National Historic Preservation Act of 1966 (54 U.S.C. 306108)

• Archeological Resources Protection Act of 1977 (16 U.S.C. 470aa-470mm)

• Archeological and Historic Preservation Act (16 U.S.C. 469-469c-2)

• The Native American Grave Protection and Repatriation Act (25 U.S.C. 3001-3013)

• Clean Water Act (33 U.S.C. 1251-1387)

• Intermodal Surface Transportation Efficiency Act of 1991. Wetlands Mitigation Banks: Sec. 1006-1007 (Pub. L. 102-240, 105 STAT 1914

• Land and Water Conservation Fund Act (Section 6(f)) 16 U.S.C. 460 -4 TO -1 (Pub. L. 88-578)

• Safe Drinking Water Act (42 U.S.C. 300)

• Resource Conservation and Recovery Act (RCRA), (42 U.S.C. 6901 et seq.)

• Comprehensive Environmental Response, Compensation, and Liability Act of 1980, 42 U.S.C. 9601 et seq.

• National Trails System Act: 16 U.S.C. 1241-1249

• Noise Abatement Standards: 23 U.S.C. 109(i) (Pub. L. 91-605) (Pub. L. 93-87)

• Executive Order (E.O.) 11990, Protection of Wetlands

• E.O. 12898, Federal Actions to Address Environmental Justice in Minority Populations and Low Income Populations

• E.O. 11988, Floodplain Management

• E.O. 11593, Protection and Enhancement of Cultural Resources

• E.O. 13007, Indian Sacred Sites

• E.O. 13175, Consultation and Coordination with Indian Tribal Governments

• E.O. 11514, Protection and Enhancement of Environmental Quality

• E.O. 13112, Invasive Species

(Catalog of Federal Domestic Assistance Program Number 20.205, Highway Planning and Construction. The regulations implementing Executive Order 12372 regarding intergovernmental consultation on Federal programs and activities apply to this program.)

Authority: 23 U.S.C. 139(l)(1).

Peter J. Hartman,
Division Administrator, Boise, Idaho.

[FR Doc. 2021-06163 Filed 3-25-21; 8:45 am]

BILLING CODE 4910-RY-P